SECURITIES AND EXCHANGE COMMISSION

[Release No. 34-93066; File No. SR-NYSEArca-2021-52]

Self-Regulatory Organizations; NYSE Arca, Inc.; Notice of Withdrawal of a Proposed Rule Change To Amend the NYSE Arca Equities Fees and Charges

September 20, 2021.

I. Introduction

On June 14, 2021, NYSE Arca, Inc. (“NYSE Arca” or the “Exchange”) filed with the Securities and Exchange Commission (the “Commission”), pursuant to Section 19(b)(1) of the Securities Exchange Act of 1934 (“Act”) ¹ and Rule 19b-4 thereunder,² a proposed rule change (File No. SR-NYSEArca-2021-52) to amend the NYSE Arca Equities Fees and Charges (“Fee Schedule”).³ The proposed rule change was immediately effective upon filing with the Commission pursuant to Section 19(b)(3)(A) of the Act.⁴ The proposed rule change was published for comment in the Federal Register on July 6, 2021.⁵ The Commission received no comment letters regarding the proposed rule change. On August 5, 2021, the Commission, pursuant to Section 19(b)(3)(C) of the Act,⁶ temporarily suspended and instituted proceedings to determine whether to approve or disapprove the proposal.⁷ On September 14, 2021, the Exchange withdrew the proposed rule change (SR-NYSEArca-2021-52).

¹ 15 U.S.C. 78s(b)(1).

² 17 CFR 240.19b-4.

³ See Securities Exchange Act Release No. 92291 (June 29, 2021), 86 FR 35551 (July 6, 2021) (“Notice”).

⁴ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁵ See Notice, supra note 3.

⁶ 15 U.S.C. 78s(b)(3)(C).

⁷ See Securities Exchange Act Release No. 92583 (August 5, 2021), 86 FR 44116 (August 11, 2021).

For the Commission, by the Division of Trading and Markets, pursuant to delegated authority.⁸
⁸ 17 CFR 200.30-3(a)(12).
J. Matthew DeLesDernier,
Assistant Secretary.

[FR Doc. 2021-20657 Filed 9-23-21; 8:45 am]

BILLING CODE 8011-01-P